DEPARTMENT OF THE INTERIOR

Bureau of Land Management

[LLORW00000.L10200000.DF0000.19XL1109AF.LXSSH1070000.HAG 19-00XX]

Notice of Public Meeting for the John Day—Snake Resource Advisory Council

AGENCY: Bureau of Land Management, Interior.

ACTION: Notice of public meeting.

SUMMARY: In accordance with the Federal Land Policy and Management Act of 1976 and the Federal Advisory Committee Act of 1972, the U.S. Department of the Interior, Bureau of Land Management (BLM) John Day—Snake Resource Advisory Council (JDSRAC) will meet as indicated below.

DATES: The JDSRAC will hold a public meeting on Thursday and Friday, June 20-21, 2019. The meeting will run from 11:00 a.m. PST to 5:30 p.m. on June 20, and from 8:00-2:00 p.m. PST on June 21. A public comment period will be available from 1:00 p.m. until 1:30 p.m. PST on June 21. The JDSRAC will hold a meeting on October 17-18, 2019. The meeting will run from 12:00 p.m. to 5:00 p.m. PST on October 17, and from 8:00-12:30 p.m. PST on October 18. A public comment period will be available from 11:30 a.m. until 12:00 p.m. PST on October 18.

ADDRESSES: The June JDSRAC meeting will be held at the Memorial Hall, 120 S. Main St., Condon, OR. This meeting will start with a field trip to the John Day River down Armstrong Canyon Road on June 20. The public is welcome to attend this field trip; however, they must provide their own transportation and a high-clearance vehicle is needed. The meeting will reconvene at Memorial Hall at 3:00 p.m. On June 21, the meeting will begin at Memorial Hall and then the group will travel to Cottonwood Canyon State Park for the remainder of the day. The October JDSRAC meeting will be held at the Umatilla National Forest Office at 72510 Coyote Rd., Pendleton, OR.

FOR FURTHER INFORMATION CONTACT: Lisa Clark, Public Affairs Officer, 3050 NE 3rd Street, Prineville, OR 97754; 541-416-6864; lmclark@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The 15-member JDSRAC was chartered to provide information and advice regarding the use and development of the lands administered by the BLM and Forest Service in central and eastern Oregon. Members represent an array of stakeholder interests in the land and resources from within the local area and statewide.

All meetings are open to the public in their entirety. The JDSRAC meeting agenda for June includes a continuing discussion on wilderness permits and sustainable recreation on the Deschutes National Forest, a presentation on the issue of illegal occupancy and impacts to public land in Central Oregon, a visit to Cottonwood Canyon State Park, and an introduction to a fee revison proposal for the National Historic Oregon Trail Interpretive Center (NHOTIC). The October meeting agenda includes an update on the Deschutes Wilderness Permit process, an update on the public outreach for the Lower Deschutes River fee change proposals, an update on the Thirtymile Management Plan, an overview of the Virtue Flat OHV area, and a continuation of the NHOTIC fee proposal discussion. Final agendas will be posted online at https://www.blm.gov/get-involved/resource-advisory-council/near-you/oregon-washington/john-day-rac.

Each meeting will offer a 30-minute public comment period; depending on the number of persons wishing to comment, the length of comments may be limited. The public may also send written comments to the John Day—Snake RAC at BLM Prineville District, Attn. Lisa Clark, 3050 NE 3rd Street, Prineville, OR 97754. Before including your address, phone number, email address, or other personal identifying information in your comments, please be aware that your entire comment—including your personal identifying information—may be made publicly available at any time. While you can ask us in your comment to withhold your personal identifying information from public review, we cannot guarantee that we will be able to do so.

Authority: 43 CFR 1784.4-2.

Jeff Kitchens,
Deschutes District Manager.

[FR Doc. 2019-07134 Filed 4-10-19; 8:45 am]

BILLING CODE 4310-33-P